DEPARTMENT OF TRANSPORTATION

Federal Aviation Administration

14 CFR Part 39

[Docket No. FAA-2015-0682; Directorate Identifier 2014-NM-074-AD]

RIN 2120-AA64

Airworthiness Directives; ATR—GIE Avions de Transport Régional Airplanes

AGENCY: Federal Aviation Administration (FAA), DOT.

ACTION: Notice of proposed rulemaking (NPRM).

SUMMARY: We propose to adopt a new airworthiness directive (AD) for all ATR—GIE Avions de Transport Régional Model ATR42 and ATR72 airplanes. This proposed AD was prompted by new occurrences of certain cracked main landing gear (MLG) rear hinge pins. This proposed AD would require identifying the serial number and part number of the MLG rear hinge pins, and replacement of pins or the MLG if necessary. We are proposing this AD to detect and correct cracked rear hinge pins, which could lead to MLG structural failure, possibly resulting in collapse of the MLG and consequent injury to the occupants of the airplane.

DATES: We must receive comments on this proposed AD by May 26, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Messier-Bugatti-Dowty service information identified in this proposed AD, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0682; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Comments Invited

We invite you to send any written relevant data, views, or arguments about this proposed AD. Send your comments to an address listed under the ADDRESSES section. Include “Docket No. FAA-2015-0682; Directorate Identifier 2014-NM-074-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2014-0074, dated March 21, 2014 (referred to after this as the Mandatory Continuing Airworthiness Information, or “the MCAI”), to correct an unsafe condition for all ATR-GIE Avions de Transport Régional Model ATR42 and ATR72 airplanes. The MCAI states:

Prompted by cases of rupture of Main Landing Gear (MLG) rear hinge pin part number (P/N) D61000 encountered in service in 1994 and 1996, DGAC France issued [an] AD * * * for ATR 42 aeroplanes and [another] AD * * * for ATR 72 aeroplanes to require inspection and, depending on findings, corrective action.

Since those [French] ADs were issued, new occurrences of cracked rear hinge pin P/N D61000 were reported on ATR72 MLG.

The result of subsequent investigation revealed that the affected pins were subjected to a non-detected thermal abuse done in production during grinding process. Analysis also showed that other MLG pin P/N's could be affected by the same nonconformity.

This condition, if not detected and corrected, could lead to MLG structural failure, possibly resulting in collapse of the MLG and consequently injury to the occupants of the aeroplane.

For the reasons described above, this [EASA] AD requires inspection and, depending on findings, replacement of affected pins.

You may examine the MCAI in the AD docket on the Internet at http://www.regulations.gov by searching for and locating Docket No. FAA-2015-0682.

Related Service Information Under 1 CFR Part 51

Messier-Bugatti-Dowty has issued the following service information.

• Service Bulletin 631-32-213, dated December 16, 2013, which describes procedures for inspecting the MLG hinge pin.

• Service Bulletin 631-32-214, dated January 13, 2014, which describes procedures for inspecting the MLG pins.

• Service Bulletin 631-32-215, dated January 13, 2014, which describes procedures for inspecting the MLG pins.

• Service Bulletin 631-32-216, Revision 1, December 17, 2013, which describes procedures for inspecting the MLG hinge pin.

• Service Bulletin 631-32-219, dated March 3, 2014, which describes procedures for inspecting the MLG hinge pin.

• Service Bulletin 631-32-220, dated March 3, 2014, which describes procedures for inspecting the MLG hinge pin.

The actions described in this service information are intended to correct the unsafe condition identified in the MCAI. This service information is reasonably available; see ADDRESSES for ways to access this service information.

Service Information Correction

Messier-Bugatti-Dowty Service Bulletin 631-32-215, dated January 13, 2014, has a typo for the issue month listed in the service bulletin. The month listed for Messier-Bugatti-Dowty Service Bulletin 631-32-215, dated January 13, 2014, should read “January” instead of “Juanary.”

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 81 airplanes of U.S. registry.

We also estimate that it would take about 8 work-hours per product to comply with the basic requirements of this proposed AD. The average labor rate is $85 per work-hour. Required parts would cost about $16,000 per product. Based on these figures, we estimate the cost of this proposed AD on U.S. operators to be $1,351,080, or $16,680 per product.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

ATR-GIE Avions de Transport Régional: Docket No. FAA-2015-0682; Directorate Identifier 2014-NM-074-AD.

(a) Comments Due Date

We must receive comments by May 26, 2015.

(b) Affected ADs

None.

(c) Applicability

This AD applies to ATR-GIE Avions de Transport Régional Model ATR42-200, -300, -320, and -500 airplanes; and Model ATR72-101, -201, -102, -202, -211, -212, and -212A airplanes; certificated in any category; all certified models; all manufacturer serial numbers.

(d) Subject

Air Transport Association (ATA) of America Code 32, Landing Gear.

(e) Reason

This AD was prompted by new occurrences of certain cracked main landing gear (MLG) rear hinge pins. We are issuing this AD to detect and correct cracked rear hinge pins, which could lead to MLG structural failure, possibly resulting in collapse of the MLG and consequent injury to the occupants of the airplane.

(f) Compliance

Comply with this AD within the compliance times specified, unless already done.

(g) Hinge Pin Identification and Replacement for Model ATR72 Airplanes

For Model ATR72 airplanes: Within 12 months after the effective date of this AD, inspect for the serial number of the left-hand (LH) and right-hand (RH) MLG rear hinge pins having part number (P/N) D61000. A review of airplane maintenance records is acceptable in lieu of this identification if the part number and serial number of the LH and RH MLG rear hinge pins can be conclusively determined from that review. If a rear hinge pin having P/N D61000 has a serial number listed in Messier-Bugatti-Dowty Service Bulletin 631-32-213, dated December 16, 2013; or Messier-Bugatti-Dowty Service Bulletin 631-32-216, Revision 1, December 17, 2013; as applicable: Within 12 months after the effective date of this AD, replace the pin with a serviceable part as identified in paragraph (h) of this AD, in accordance with the Accomplishment Instructions of Messier-Bugatti-Dowty Service Bulletin 631-32-213, dated December 16, 2013; or Messier-Bugatti-Dowty Service Bulletin 631-32-216, Revision 1, dated December 17, 2013; as applicable.

(h) Definition of Serviceable Hinge Pin for Model ATR72 Airplanes

For Model ATR72 airplanes: For purposes of paragraph (g) of this AD, a serviceable MLG rear hinge pin is a pin that is specified in paragraph (h)(1) or (h)(2) of this AD.

(1) A hinge pin that is not identified in Messier-Bugatti-Dowty Service Bulletin 631-32-213, dated December 16, 2013; or Messier-Bugatti-Dowty Service Bulletin 631-32-216, Revision 1, dated December 17, 2013; as applicable.

(2) A hinge pin that has been inspected and reconditioned, in accordance with the Accomplishment Instructions of Messier-Bugatti-Dowty Service Bulletin 631-32-213, dated December 16, 2013; or Messier-Bugatti-Dowty Service Bulletin 631-32-216, Revision 1, dated December 17, 2013; as applicable.

(i) MLG Pin Identification and Replacement for Model ATR72 Airplanes

For Model ATR72 airplanes: At the earlier of the times specified in paragraphs (i)(1) and (i)(2) of this AD, inspect all LH and RH MLG pins for a part number and serial number listed in Messier-Bugatti-Dowty Service Bulletin 631-32-214, dated January 13, 2014; or Messier-Bugatti-Dowty Service Bulletin 631-32-219, dated March 3, 2014; as applicable. A review of airplane maintenance records is acceptable in lieu of this inspection if the part number and serial number of the LH and RH MLG pin can be conclusively determined from that review. If any affected MLG pin is found: At the earlier of the compliance times specified in paragraphs (i)(1) and (i)(2) of this AD, replace the MLG with a serviceable MLG as identified in paragraph (j) of this AD, using a method approved by the Manager, International Branch, ANM-116, Transport Airplane Directorate, FAA; or the European Aviation Safety Agency (EASA); or ATR-GIE Avions de Transport Régional's EASA Design Organization Approval (DOA).

(1) No later than the next MLG overhaul scheduled after the effective date of this AD.

(2) Within 20,000 flight cycles or 9 years, whichever occurs first, accumulated since installation of the MLG on an airplane since new or since last overhaul, as applicable.

(j) Definition of Serviceable MLG for Model ATR72 Airplanes

For Model ATR72 airplanes: For purposes of paragraph (i) of this AD, a serviceable MLG is one that incorporates pins specified in paragraph (j)(1) or (j)(2) of this AD.

(1) Pins that are not identified in Messier-Bugatti-Dowty Service Bulletin 631-32-214, dated January 13, 2014; or Messier-Bugatti-Dowty Service Bulletin 631-32-219, dated March 3, 2014; as applicable.

(2) Pins that have been inspected and reconditioned in accordance with the Accomplishment Instructions of Messier-Bugatti-Dowty Service Bulletin 631-32-214, dated January 13, 2014; or Messier-Bugatti-Dowty Service Bulletin 631-32-219, dated March 3, 2014; as applicable.

(k) MLG Pin Identification and Replacement for Model ATR42 Airplanes

(1) For Model ATR42 airplanes: Within the compliance time identified in paragraph (k)(1)(i) or (k)(1)(ii) of this AD, whichever occurs first, inspect for any LH and RH MLG pins having a part number and serial number listed in Messier-Bugatti-Dowty Service Bulletin 631-32-215, dated January 13, 2014; or Messier-Bugatti-Dowty Service Bulletin 631-32-220, dated March 3, 2014; as applicable. A review of airplane maintenance records is acceptable in lieu of this identification if the part number and serial number of the LH and RH MLG pin can be conclusively determined from that review.

(i) No later than the next MLG overhaul scheduled after the effective date of this AD.

(ii) Within 20,000 flight cycles or 9 years, whichever occurs first, accumulated since installation of the MLG on an airplane since new or since last overhaul, as applicable.

(2) If the MLG pin having a part number and serial number listed in Messier- Bugatti-Dowty Service Bulletin 631-32-215, dated January 13, 2014; or Messier-Bugatti-Dowty Service Bulletin 631-32-220, dated March 3, 2014; as applicable; is found to be installed during the identification required by paragraph (k)(1) of this AD, within the compliance time identified in paragraph (k)(1) of this AD, replace the MLG with a serviceable MLG, using a method approved by the Manager, International Branch, ANM-116, Transport Airplane Directorate, FAA; or the EASA; or ATR-GIE Avions de Transport Régional's EASA DOA. A serviceable MLG is a part that has pins as identified in paragraph (k)(2)(i) or (k)(2)(ii) of this AD.

(i) Pins that are not listed in Messier-Bugatti-Dowty Service Bulletin 631-32-215, dated January 13, 2014; or Messier-Bugatti-Dowty Service Bulletin 631-32-220, dated March 3, 2014; as applicable.

(ii) Pins that have been inspected and reconditioned, in accordance with the Accomplishment Instructions of Messier-Bugatti-Dowty Service Bulletin 631-32-215, dated January 13, 2014; or Messier-Bugatti-Dowty Service Bulletin 631-32-220, dated March 3, 2014; as applicable.

(l) Credit for Previous Actions

This paragraph provides credit for actions required by paragraph (g) of this AD, if those actions were performed before the effective date of this AD using Messier-Bugatti-Dowty Service Bulletin 631-32-216, dated October 30, 2013, which is not incorporated by reference in this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or ATR-GIE Avions de Transport Régional's EASA DOA. If approved by the DOA, the approval must include the DOA-authorized signature.

(n) Related Information

(1) Refer to Mandatory Continuing Airworthiness Information (MCAI) EASA Airworthiness Directive 2014-0074, dated March 21, 2014, for related information. This MCAI may be found in the AD docket on the Internet at http://www.regulations.gov by searching for and locating Docket No. FAA-2015-0682.

(2) For Messier-Bugatti-Dowty service information identified in this AD, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com. You may view this service information at the FAA, Transport Airplane Directorate, 1601 Lind Avenue SW., Renton, WA. For information on the availability of this material at the FAA, call 425-227-1221.

Issued in Renton, Washington, on March 25, 2015.
Michael Kaszycki,
Acting Manager, Transport Airplane Directorate, Aircraft Certification Service.

[FR Doc. 2015-07801 Filed 4-9-15; 8:45 am]

BILLING CODE 4910-13-P